DEPARTMENT OF THE INTERIOR

Bureau of Land Management

[WAOR 057423]

Public Land Order No. 7944; Extension of Public Land Order No. 7614 for Halliday Fen Research Natural Area, Washington

AGENCY: Bureau of Land Management, Interior.

ACTION: Public land order.

SUMMARY: This order extends the duration of the withdrawal created by Public Land Order (PLO) No. 7614 for an additional 20-year period. PLO No. 7614 withdrew 646.40 acres of National Forest System lands in the Colville National Forest near Metaline, Washington from location and entry under the United States mining laws to protect the Halliday Fen Research Natural Area (RNA). A Federal Register notice published on September 29, 2023, revised the legal land description and acreage written in PLO No. 7614 to reflect the Bureau of Land Management (BLM) Cadastral Survey's current standards for Specifications for Descriptions of Land.

DATES: This PLO takes effect on September 10, 2024.

FOR FURTHER INFORMATION CONTACT: Luke Poff, Realty Specialist, BLM Oregon/Washington State Office, (503) 808-6249, by email at lpoff@blm.gov. The US Forest Service can be reached at the Colville National Forest Supervisor's Office, 765 South Main St., Colville, Washington, 99114, (509) 684-7000. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The extension of PLO No. 7614 is required in order to continue the protection of the unique characteristics, sensitive fauna, hydrology, and research values of the Halliday Fen RNA, which includes a marl fen, western red cedar and western hemlock forests, and habitat for a variety of rare plant and animal species. The RNA is also within the Salmo Priest Grizzly Bear Management Unit, which is part of the Selkirk Grizzly Bear Recovery Zone in Pend Oreille County, Washington.

Order

By virtue of the authority vested in the Secretary of the Interior by section 204(d) of the Federal Land Policy and Management Act of 1976, 43 U.S.C. 1714(d), it is ordered as follows:

1. PLO No. 7614 (69 FR 55448 (2004)), as corrected (88 FR 67349 (2023)), which withdrew 646.40 acres of National Forest System lands from location and entry under the United States mining laws, subject to valid existing rights, to protect the Halliday Fen RNA, is hereby extended for an additional 20-year period. The legal land description and acreage was revised to reflect the BLM Cadastral Survey's Specifications for Descriptions of Land, which is as follows:

Colville National Forest

Willamette Meridian

T. 40 N., R. 44 E.,

Sec. 31, W½NE¼, SE¼NE¼, SE¼NW¼, E½SW¼, and NW¼SE¼.

Together with portions of the following lands as specifically identified and described by metes and bounds in the “Boundary Description for Halliday Fen Research Natural Area to be Withdrawn from Mineral Location” dated April 19, 2002, in the official records of the BLM Oregon/Washington State Office and the Colville National Forest Office, Colville, Washington:

T. 39 N., R. 43 E.,

Sec. 1, lot 1.

T. 40 N., R. 43 E.,

Sec. 36, E½SE¼.

T. 39 N., R. 44 E.,

Sec. 6, lots 2 thru 5, and SE¼NW¼.

T. 40 N., R. 44 E.,

Sec. 30, SE¼SW¼, NW¼SE¼, and S½SE¼;

Sec. 31, lots 1 thru 4, NE¼NE¼, NE¼NW¼, NE¼SE¼, and S½SE¼;

Sec. 32, W½NW¼ and NW¼SW¼.

The areas described aggregate 646.37 acres.

2. This withdrawal will expire 20 years from the effective date of this order unless, as a result of a review conducted prior to the expiration date pursuant to Section 204(f) of the Federal Land Policy and Management Act, the Secretary determines that the withdrawal shall be further extended.

(Authority: 43 U.S.C. 1714)

Robert T. Anderson,
Solicitor.

[FR Doc. 2024-16897 Filed 7-30-24; 8:45 am]

BILLING CODE 3411-15-P